COMMISSION ON CIVIL RIGHTS

Sunshine Act Notice

AGENCY: United States Commission on Civil Rights.

ACTION: Notice of meeting.

Date and Time: Friday, August 7, 2009; 9:30 a.m. EDT.

Place: 624 9th St., NW., Room 540, Washington, DC 20425.

Meeting Agenda

This meeting is open to the public.

I. Approval of Agenda.

II. Approval of Minutes of July 10, 2009 Meeting.

III. Announcements.

IV. Management and Operations.

• Scheduling of Monthly Teleconferences

V. Program Planning.

• Approval of 2009 Statutory Report

• Approval of Concept Paper for 2010 Statutory Report Topic

• Consideration of a Follow-up Letter to the Department of Justice Regarding Dismissal of Voter Intimidation Charges from an Incident in Philadelphia During the 2008 Election

• Consideration of a Letter to the President Regarding Racial and Gender Preferences in Proposed Health Care Legislation

• Update on Status of Document Request to Government Agencies Regarding their Civil Rights Enforcement Activities

• Update on Possible Commission Public Service Announcements

VI. Adjourn.

Contact Person for Further Information: Lenore Ostrowsky, Acting Chief, Public Affairs Unit, (202) 376-8591. TDD: (202) 376-8116.

Persons with a disability requiring special services, such as an interpreter for the hearing impaired, should contact Pamela Dunston at least seven days prior to the meeting at 202-376-8105. TDD: (202) 376-8116.

Dated: July 27, 2009.
David Blackwood,
General Counsel.

[FR Doc. E9-18222 Filed 7-27-09; 4:15 pm]

BILLING CODE 6335-01-P